SMALL BUSINESS ADMINISTRATION

Reporting and Recordkeeping Requirements Under OMB Review.

AGENCY: Small Business Administration.

ACTION: Notice of reporting requirements submitted for OMB review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before September 6, 2007. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Jacqueline White, Small Business Administration, 409 3rd Street, SW., 5th Floor, Washington, DC 20416; and OMB Reviewer, Office of Information and Regulatory Affairs, Office of Management and Budget, New Executive Office Building, Washington, DC 20503.

FOR FURTHER INFORMATION CONTACT: Jacqueline White, Agency Clearance Officer, (202) 205-7044.

SUPPLEMENTARY INFORMATION: Title: Small Business Week Award Nominees.

No: SBA Form 3300.

Frequency: On occasion.

Description of Respondents: Respondents Are Entrepreneurs and Small Business, Owners Nominated for SBA's National Small Business Week Awards.

Annual Responses: 600.

Annual Burden: 450.

Title: Small Business Administration Application for Certificate of Competency.

No: SBA Form 1531.

Frequency: On occasion.

Description of Respondents: Small Business Owners.

Annual Responses: 300.

Annual Burden: 2,400.

Title: SBIC Financial Reports.

No: SBA Forms 468, 468.1, 468.2, 468.3, 468.4.

Frequency: On occasion.

Description of Respondents: Small Business Investment Companies.

Annual Responses: 1,265.

Annual Burden: 19,855.

Title: Small Business Investment Companies.

No: SBA Form 1031.

Frequency: On occasion.

Description of Respondents: Small Business Investment Companies.

Annual Responses: 4,000.

Annual Burden: 800.

Title: Financing Eligibility Statement Social Disadvantage.

No: SBA Forms 1941A, 1941B, 1941C.

Frequency: On occasion.

Description of Respondents: Small Business Investment Companies (SSBIC).

Annual Responses: 190.

Annual Burden: 380.

Title: Size Status Declaration.

No: SBA Form 480.

Frequency: On occasion.

Description of Respondents: New Licensees.

Annual Responses: 4,200.

Annual Burden: 700.

Title: Stockholders Confirmation (Corporation) Owership Confirmation (Partnership).

No: SBA Forms 1405, 1405a.

Frequency: On occasion.

Description of Respondents: Newly Licensed SBICs.

Annual Responses: 600.

Annual Burden: 600.

Title: CDC Annual Report Guide.

No: SBA Form 1253.

Frequency: On occasion.

Description of Respondents: Certified Development Companies.

Annual Responses: 1.

Annual Burden: 7,500.

Jacqueline White,
Chief, Administrative Information Branch.

[FR Doc. E7-15243 Filed 8-6-07; 8:45 am]

BILLING CODE 8025-01-P